DEPARTMENT OF JUSTICE

Notice of Lodging of Proposed Consent Decree Under The Clean Water Act

On November 2, 2020, the Department of Justice filed a Complaint and concurrently lodged a proposed consent decree with the United States District Court for the Northern District of West Virginia in the lawsuit entitled United States of America, the State of West Virginia, and the Commonwealth of Pennsylvania v. Koppers Inc., Civil Action No. 5:20-cv-236.

The lawsuit seeks injunctive relief and civil penalties for alleged violations of the Clean Water Act, the Pennsylvania Clean Streams Law, the Pennsylvania Storage Tank and Spill Prevention Act, and the West Virginia Above Ground Storage Tank Act, at facilities currently or formerly owned and operated by Koppers Inc. in Clairton, Pennsylvania, Green Spring, West Virginia, and Follansbee, West Virginia. The alleged violations relate to failures to adhere to precautionary requirements designed to prevent or contain discharges of oil into navigable waters, such as testing of oil storage tanks and ensuring facilities had adequate measures in place for containing discharges of oil.

The proposed Consent Decree requires Koppers Inc. to conduct integrity testing on the two noncompliant tanks at its only owned and operated facility in Follansbee, West Virginia and to update its regulatory plans as necessary. The proposed Consent Decree also requires Koppers Inc. to pay civil penalties in the amount of $800,000 to the United States; $175,000 to WVDEP; and $24,500 to PA DEP.

The publication of this notice opens a period for public comment on the consent decree. Comments should be addressed to the Assistant Attorney General, Environment and Natural Resources Division, and should refer to United States, et al. v. Koppers Inc., D.J. Ref. No. 90-5-1-1-11701. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $10.50 (25 cents per page reproduction cost) payable to the United States Treasury.

Jeffrey Sands,
Assistant Section Chief, Environmental Enforcement Section, Environment and Natural Resources Division.

[FR Doc. 2020-24769 Filed 11-5-20; 8:45 am]

BILLING CODE 4410-15-P